DEPARTMENT OF COMMERCE

National Oceanic and Atmospheric Administration

Agency Information Collection Activities; Submission to the Office of Management and Budget (OMB) for Review and Approval; Comment Request; Cooperative Game Fish Tagging Report

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 16, 2024 during a 60-day comment period. This notice allows for an additional 30 days for public comments.

Agency: National Oceanic and Atmospheric Administration, Commerce.

Title: Cooperative Game Fish Tagging Report.

OMB Control Number: 0648-0247.

Form Number(s): 88-162.

Type of Request: Regular submission, extension of a current information collection.

Number of Respondents: 500.

Average Hours per Response: Two minutes to complete the fish tag card.

Total Annual Burden Hours: 167 hours.

Needs and Uses: This request is for extension of a current information collection. The Cooperative Game Fish Tagging Program was initiated in 1971 as part of a comprehensive research program resulting from passage of Public Law 86-359, Study of Migratory Game Fish, and other legislative acts under which the National Marine Fisheries Service (NMFS) operates. The Cooperative Tagging Center attempts to determine the migration patterns of, and other biological information for, billfish, tunas, and swordfish. The Fish Tag Issue Report card is a necessary part of the tagging program. Fishermen volunteer to tag and release their catch. When requested, NMFS provides the volunteers with fish tags for their use when they release their fish. Usually a group of five tags is sent at one time, each attached to a Report card, which is pre-printed with the first and last tag numbers received, and has spaces for the respondent's name, address, date, and club affiliation (if applicable). He/she fills out the card with information when a fish is tagged and mails it to NMFS.

Information on each species is used by NMFS to determine migratory patterns, distance traveled, stock boundaries, age, and growth. These data are necessary input for developing management criteria by regional fishery management councils, states, and NMFS. The tag report cards are necessary to provide tags to the volunteer angler, record when and where the fish was tagged, the species, its estimated length and weight, tag number, and information on the tagger for follow-ups if the tagged fish is recovered. Failure to obtain these data would make management decisions very difficult and would be contrary to the NMFS Marine Recreational Fishing policy objectives. Anglers are made aware of the tagging program through several forms of media: newspaper and magazine articles, through both The Billfish Foundation and the Southeast Fisheries Science Center websites, peer review papers, and by word of mouth.

Affected Public: Individuals or households.

Frequency: Occasionally.

Respondent's Obligation: Voluntary.

Legal Authority: 16 U.S.C. 760e Name of Law: Study of Migratory Game Fish;

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0247.

Sheleen Dumas,
Department PRA Clearance Officer, Office of the Under Secretary for Economic Affairs, Commerce Department.

[FR Doc. 2024-09168 Filed 4-26-24; 8:45 am]

BILLING CODE 3510-22-P